DEPARTMENT OF THE INTERIOR

National Park Service

Notice of Intent to Repatriate Cultural Items From the Kachemak Bay Region, AK in the Control of the U.S. Fish and Wildlife Service and in Possession of the University of Alaska Museum, Fairbanks, AK

AGENCY: National Park Service, Interior.

ACTION: Notice.

Notice is hereby given under the Native American Graves Protection and Repatriation Act, 43 CFR 10.10 (a)(3), of the intent to repatriate cultural items from the Kachemak Bay Region, Alaska in the control of the U.S. Fish and Wildlife Service and in possession of the University of Alaska Museum, Fairbanks, AK which meet the definition of “unassociated funerary object” under Section 2 of the Act.

The two cultural items consist of a bone wedge and pumice.

In 1931, these two cultural items were recovered with a burial at the Fox Farm Site, Yukon Island, AK during excavations conducted under the auspices of the University of Pennsylvania Museum by Frederica de Laguna. The human remains recovered with these cultural items have previously been repatriated from the University of Pennsylvania Museum.

The two cultural items consist of a bone eye and a slate point.

In 1932, these two cultural items were recovered with a burial on Yukon Island, Alaska during excavations conducted under the auspices of the University of Pennsylvania Museum by Frederica de Laguna. The human remains recovered with these cultural items have previously been repatriated from the University of Pennsylvania Museum.

In 1953, the four cultural items mentioned above were sent to the University of Alaska Museum from the University of Pennsylvania Museum as part of an exchange collection.

Based on material culture and oral history, the sites listed above have been identified as Kachemak Bay period occupations (c. 1500 AD).

Based on the above mentioned information, officials of the U.S. Fish and Wildlife Service have determined that, pursuant to 43 CFR 10.2 (d)(2)(ii), these four cultural items are reasonably believed to have been placed with or near individual human remains at the time of death or later as part of the death rite or ceremony and are believed, by a preponderance of the evidence, to have been removed from a specific burial site of a Native American individual. Officials of the U.S. Fish and Wildlife Service have also determined that, pursuant to 43 CFR 10.2 (e), there is a relationship of shared group identity which can be reasonably traced between these items and the Chugach Alaska Corporation.

This notice has been sent to officials of the Chugach Alaska Corporation. Representatives of any other Indian tribe that believes itself to be culturally affiliated with these objects should contact Deb Corbett, U.S. Fish and Wildlife Service, 1011 E. Tudor Road, Anchorage, Alaska 99503; telephone: (907) 786-3399, fax: (907) 786-3635 before May 1, 2000. Repatriation of these objects to the Chugach Alaska Corporation may begin after that date if no additional claimants come forward.

Dated: March 23, 2000.
Francis P. McManamon,
Departmental Consulting Archeologist, Manager, Archeology and Ethnography Program.

[FR Doc. 00-7847 Filed 3-29-00; 8:45 am]

BILLING CODE 4310-70-F